DEPARTMENT OF AGRICULTURE

Animal and Plant Health Inspection Service

9 CFR Part 3

[Docket No. 95-029-3]

Animal Welfare; Perimeter Fence Requirements; Technical Amendment

AGENCY: Animal and Plant Health Inspection Service, USDA.

ACTION: Final rule; technical amendment.

SUMMARY: In a final rule published in the Federal Register on October 18, 1999, we amended the Animal Welfare regulations to require that a perimeter fence be placed around outdoor housing facilities for marine mammals and certain other regulated animals. This document contains a correction to the list of large felines published in the final rule. Bobcats are not considered large felines and, therefore, we are removing them from the list of large felines that appears in the regulations.

DATES: Effective on November 28, 2000.

FOR FURTHER INFORMATION CONTACT: Dr. Barbara Kohn, Staff Veterinarian, Animal Care, APHIS, 4700 River Road Unit 84, Riverdale, MD 20737-1234; (301) 734-7833.

SUPPLEMENTARY INFORMATION:

Background

In a final rule published in the Federal Register on October 18, 1999 (64 FR 56142-56148, Docket No. 95-029-2), we amended the Animal Welfare regulations to require that a perimeter fence be placed around outdoor housing facilities for marine mammals and certain other regulated animals.

In the rule portion, § 3.127(d) contains an error in the list of large felines. We identified large felines as “lions, tigers, leopards, cougars, bobcats, etc.” However, bobcats are not considered large felines based on generally accepted and published morphometric (measurement of height, weight, length, girth, etc.) data. Therefore, we are removing bobcats from the list of large felines in § 3.127(d). Based on this change, all outdoor housing facilities (i.e., facilities not entirely indoors) for bobcats would require a 6-foot perimeter fence or an alternative method identified in § 3.127(d)(1), (d)(2), (d)(3), and (d)(4) rather than an 8-foot fence.

This document also revises the authority citation for 9 CFR part 3 to reflect a revision to 7 CFR part 371 that took effect after our final rule was published.

List of Subjects in 9 CFR Part 3

Animal welfare, Marine mammals, Pets, Reporting and recordkeeping requirements, Research, Transportation.

Accordingly, we are amending 9 CFR part 3 as follows:

PART 3—STANDARDS

1. The authority citation for part 3 is revised to read as follows:

Authority: 7 U.S.C. 2131-2159; 7 CFR 2.22, 2.80, and 371.7.

§ 3.127 [Amended]

2. In § 3.127, the second sentence of the introductory text in paragraph (d) is amended by removing the word “bobcats,”.

Done in Washington, DC, this 17th day of November 2000.
Bobby R. Acord,
Acting Administrator, Animal and Plant Health Inspection Service.

[FR Doc. 00-30286 Filed 11-27-00; 8:45 am]

BILLING CODE 3410-34-P